DEPARTMENT OF AGRICULTURE

Forest Service

36 CFR Part 219

RIN 0596-AD28

National Forest System Land Management Planning; Correction

AGENCY: Forest Service, Agriculture (USDA).

ACTION: Technical correction.

SUMMARY: This document makes technical corrections to Forest Service regulations regarding National Forest System land management planning. The correction reinstates paragraphs that were inadvertently removed from a final rule published on December 15, 2016.

DATES: This correction is effective December 1, 2021.

ADDRESSES: Written inquiries about this correction may be sent to the Director, Ecosystem Management Coordination Staff, USDA Forest Service, 1400 Independence Ave. SW, Mailstop Code 1104, Washington, DC 20250-1104.

FOR FURTHER INFORMATION CONTACT: Ecosystem Management Coordination Staff's Planning Specialist Nick DiProfio at (202) 253-0640 or by email at nicholas.diprofio@usda.gov.

SUPPLEMENTARY INFORMATION:

Background

On December 15, 2016 (81 FR 90723), the United States Department of Agriculture (Department) published a final rule to amend 36 CFR part 219 (the planning rule) clarifying the direction for plan amendments, and to correct § 219.11(d)(4). The intent of the final rule was to reinstate paragraph (d)(4) in its entirety. The paragraph establishes maximum size openings for even aged harvests which the National Forest Management Act requires (16 U.S.C. 1604 (g)(3)(F)(iv)). Reinstatement of the paragraph was necessary because a sentence that had been included in the paragraph when the rule was issued on April 9, 2012, was inadvertently removed when correcting amendments were made in July 2012 (compare the rule text as set out on April 9, 2012, and July 27, 2012: 77 FR 21260, 21266 and 77 FR 44144, 44145).

However, the December 15, 2016, rule to reinstate the entire paragraph failed to maintain paragraphs (d)(4)(i), (ii), and (iii) as part of § 219.11(d)(4).

Need for Correction

To ensure that § 219.11 is complete, as it was set out when the planning rule was issued in 2012, the Department is issuing a technical correction to § 219.11(d)(4)(i) through (iii) of the planning rule.

List of Subjects in 36 CFR Part 219

Administrative practice and procedure, Environmental impact statements, Indians, Intergovernmental relations, National forests, Reporting and recordkeeping requirements, Science and technology.

Accordingly, 36 CFR part 219 is corrected by making the following correcting amendment:

PART 219—PLANNING

1. The authority citation for part 219 continues to read as follows:

Authority: 5 U.S.C. 301; 16 U.S.C. 1604, 1613.

Subpart A—National Forest System Land Management Planning

2. Amend § 219.11 by revising paragraph (d)(4) to read as follows:

§ 219.11 Timber requirements based on the NFMA.

* * * * *

(d) * * *

(4) Where plan components will allow clearcutting, seed tree cutting, shelterwood cutting, or other cuts designed to regenerate an even-aged stand of timber, the plan must include standards limiting the maximum size for openings that may be cut in one harvest operation, according to geographic areas, forest types, or other suitable classifications. Except as provided in paragraphs (d)(4)(i) through (iii) of this section, this limit may not exceed 60 acres for the Douglas-fir forest type of California, Oregon, and Washington; 80 acres for the southern yellow pine types of Alabama, Arkansas, Georgia, Florida, Louisiana, Mississippi, North Carolina, South Carolina, Oklahoma, and Texas; 100 acres for the hemlock-Sitka spruce forest type of coastal Alaska; and 40 acres for all other forest types.

(i) Plan standards may allow for openings larger than those specified in paragraph (d)(4) of this section to be cut in one harvest operation where the responsible official determines that larger harvest openings are necessary to help achieve desired ecological conditions in the plan area. If so, standards for exceptions shall include the particular conditions under which the larger size is permitted and must set a maximum size permitted under those conditions.

(ii) Plan components may allow for size limits exceeding those established in paragraphs (d)(4) introductory text and (d)(4)(i) of this section on an individual timber sale basis after 60 days public notice and review by the regional forester.

(iii) The plan maximum size for openings to be cut in one harvest operation shall not apply to the size of openings harvested as a result of natural catastrophic conditions such as fire, insect and disease attack, or windstorm (16 U.S.C. 1604(g)(3)(F)(iv)).

* * * * *

Dated: November 23, 2021.
Meryl Harrell,
Deputy Under Secretary, Natural Resources & Environment.

[FR Doc. 2021-25947 Filed 11-30-21; 8:45 am]

BILLING CODE 3411-15-P